NATIONAL SCIENCE FOUNDATION

Notice of Meeting; Sunshine Act

Agency Holding Meeting: National Science Foundation, National Science Board and its Subdivisions.

Date and Time: May 9-10, 2006.

May 9, 2006 7:45 a.m.-3:45 p.m.

Sessions:

7:45 a.m.-8:45 a.m. Open.

8:45 a.m.-9:30 a.m. Open.

9:30 a.m.-10:15 a.m. Open.

10:15 a.m.-10:45 a.m. Open.

10:45 a.m.-11:15 a.m. Open.

11:15 a.m.-11:45 a.m. Closed.

12:45 p.m.-2:30 p.m. Open.

2:30 p.m.-3:30 p.m. Open.

3:30 p.m.-3:45 p.m. Closed.

May 10, 2006 7:45 a.m.-3 p.m.

Sessions:

7:45 a.m.-8:15 a.m. Open.

8:15 a.m.-10:15 a.m. Open.

10:15 a.m.-11:45 a.m. Closed.

11:45 a.m.-12 noon Open.

12 p.m.-12:15 p.m. Closed.

1 p.m.-1:15 p.m. Executive Closed.

1:15 p.m.-1:30 p.m. Closed.

1:30 p.m.-3 p.m. Open.

Place: National Science Foundation, 4201 Wilson Blvd, Room 1235, Arlington, VA 22230.

Public Meeting Attendance: All visitors must report to the NSF's visitor's desk at the 9th and N. Stuart Streets entrance to receive a visitor's badge.

For Further Information Contact: Please refer to the National Science Board Web site (http://www.nsf.gov/nsb) for updated schedule. NSB Officer: Dr. Robert Webber, (703) 292-7000.

Status: Part of this meeting will be closed to the public. Part of this meeting will be open to the public.

Matters to be Considered:

Tuesday, May 9, 2006

Open

Committee on Programs and Plans Subcommittee on Polar Issues (7:45 a.m.-8:45 a.m.) Room 1235.

• Approval of March 2006 Minutes.

• OPP Director's report.

• IPY Planning for an Arctic Observing Network.

• USAP and Non-Native Species in Antarctica.

• Report from NSB Members on Travel to Antarctic.

Committee on Programs and Plans Task Force on Hurricane Science and Engineering (8:45 a.m.-9:30 a.m.), Room 1235.

• Approval of March 2006 Minutes.

• Outcomes of Hurricane Science and Engineering Workshop at the Florida Institute for Human and Machine Cognition on April 18, 2006.

• Future Activities of the Task Force.

Committee on Education and Human Resources Subcommittee on Science and Engineering Indicators (9:30 a.m.-10:15 a.m.), Room 1235.

• Approval of March 2006 Minutes.

• Chairman's Remarks.

• Continued Discussion on the Evolution of Indicators.

• Miscellaneous Topics.

Committee on Programs and Plans Task Force on International Science (10:15 a.m.-10:45 a.m.), Room 1235.

• Approval of March 2006 Minutes.

• Update on May 11 Hearing and Roundtable Discussion.

• Discussion of Future Task Force Activities.

Committee on Audit and Oversight (10:45 a.m.-11:15 a.m.), Room 1235.

• Approval of March 2006 Minutes.

• OIG Semiannual Report and Management Response.

• Chief Financial Officer's Update.

Committee on Education and Human Resources (12:45 p.m.-2:30 p.m.), Room 1235.

• Approval of March 2006 Minutes.

• Professional Science Master's Program.

• NSF-EHR Program Evaluations.

• Subcommittee on Science and Engineering Indicators.

• Update by the ad hoc group on “Engineering Workforce Issues and Engineering Education: What Are the Linkages?”

• NSB items.

Committee on Strategy and Budget (2:30 p.m.-3:30 p.m.), Room 1235.

• Approval of March 2006 Minutes.

• Gender Equality for Science Departments, Implications of Title IX to NSF.

• Average Award Size, Duration, and Proposal Success Rate.

• NSF Strategic Plan FY 2006-2011.

• NSF Long Range Plan Overview.

Closed

Committee on Audit and Oversight (11:15 a.m.-11:45 a.m.), Room 1235.

• Pending Investigations.

Committee on Strategy and Budget (3:30 p.m.-3:45 p.m.), Room 1235.

• Preliminary Discussion of FY 2008 Budget.

Wednesday, May 10, 2006

Open

Committee on Programs and Plans Task Force on Transformative Research (7:45 a.m.-8:15 a.m.), Room 1235.

• Approval of March 2006 Minutes.

• Update on TR Workshop III, National Science Foundation, May 16, 2006.

• Outcomes of Previous TR Workshops.

Committee on Programs and Plans (8:15 a.m.-10:15 a.m.), Room 1235.

• Approval of March 2006.

• Status Reports:

○ Task Force on Transformative Research.

○ Task Force on International Science.

○ Task Force on Hurricane Science and Engineering.

○ Subcommittee on Polar Issues.

• NSB Information Items:

○ Update on Status of Planning for NSF's Role in the Renewal of the National Academic Research Fleet.

○ An MREFC Horizon Project—the Global Environment for Networking Innovations.

• Major Research Facilities:

○ NSF Facility Plan 2006.

○ NSF Annual Major Facilities Plan Review.

• Update on NSF's Cyberinfrastructure Vision.

Executive Committee (11:45 a.m.-12 noon), Room 1235.

• Approval of November-December 2005 Minutes.

• Annual Report of the Executive Committee.

• Updates or New Business from Committee Members.

Closed Sessions

Committee on Programs and Plans (10:15 a.m.-11:45 a.m.), Room 1235.

• Awards and Agreements.

Executive Committee (12 noon-12:15 p.m.), Room 1235.

• Director's Items.

Plenary Sessions of the Board (1 a.m.-3 p.m.)

Executive Closed Session (1 p.m.-1:15 p.m.), Room 1235.

• Approval of March 2006 Executive Closed Minutes.

• Elections for Chair, Vice Chair and 2 Executive Committee Members.

Closed Session (1:15 p.m.-1:30 p.m.), Room 1235.

• Approval of March 2006 Closed Session Minutes.

• Awards and Agreements.

• Closed Committee Reports.

Open Session (1:30 p.m.-3 p.m.), Room 1235.

• Approval of March 2006 Open Session Minutes.

• Resolution to Close Portions of August 2006 meeting.

• Chairman's Report.

• Director's Report.

• Open Committee Reports.

Michael P. Crosby,
Executive Officer and NSB Office Director.

[FR Doc. 06-4183 Filed 5-1-06; 9:48 am]

BILLING CODE 7555-01-P